NATIONAL AERONAUTICS AND SPACE ADMINISTRATION

48 CFR Parts 1809 and 1852

RIN 2700-AE26

NASA FAR Supplement: NASA Suspending and Debarring Official

AGENCY: National Aeronautics and Space Administration.

ACTION: Final rule.

SUMMARY: National Aeronautics and Space Administration (NASA) is issuing a final rule to amend the NASA FAR Supplement (NFS) to change the role of NASA suspending and debarring official from the Assistant Administrator for Procurement to the Deputy General Counsel and to make other editorial changes.

DATES: Effective: April 8, 2016.

FOR FURTHER INFORMATION CONTACT: Manuel Quinones, NASA, Office of Procurement, telephone (202) 358-2143.

SUPPLEMENTARY INFORMATION:

I. Background

NASA has not published a proposed rule in the Federal Register to reassign the role of NASA Suspending and Debarring Official (SDO) from the NASA Assistant Administrator for Procurement to the NASA Deputy General Counsel at NFS 1809.403, because this change affects only the internal operating procedures of the Government and has no significant cost or administrative or cost impact on contractors or offerors.

Additionally, section 1852.223-73 is revised to correct a typographical error by redesignating paragraph (d) as (c). No other changes to the clause are made.

II. Publication of This Final Rule for Public Comment Is Not Required by Statute

Publication of proposed regulations, 41 U.S.C. 1707, is the statute which applies to the publication of the Federal Acquisition Regulation. Paragraph (a)(1) of the statute requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This final rule is not required to be published for public comment, because the revision to section 1809.403 merely reassigns the role of NASA suspending and debarring official from the Assistant Administrator for Procurement to the Deputy General Counsel. This change affects only the internal operating procedures of the Government.

III. Executive Orders 12866 and 13563

Executive Orders (E.O.s) 12866 and 13563 direct agencies to assess all costs and benefits of available regulatory alternatives and, if regulation is necessary, to select regulatory approaches that maximize net benefits (including potential economic, environmental, public health, and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant NFS revision within the meaning of FAR 1.501-1 and 41 U.S.C. 1707 does not require publication for public comment.

V. Paperwork Reduction Act

The rule does not contain any information collection requirements that require the approval of the Office of Management and Budget under the Paperwork Reduction Act (44 U.S.C. chapter 35).

List of Subjects in 48 CFR 1809 and 1852

Government procurement.

Manuel Quinones,
NASA FAR Supplement Manager.

Accordingly, 48 CFR parts 1809 and 1852 are amended as follows:

PART 1809—CONTRACTOR QUALIFICATIONS

1. The authority citation for part 1809 is revised to read as follows:

Authority: 51 U.S.C. 20113(a) and 48 CFR chapter 1.

2. Revise section 1809.403 to read as follows:

1809.403 Definitions.

For purposes of FAR subpart 9.4 and this subpart, the Deputy General Counsel is the “debarring official,” the “suspending official,” and the agency head's “designee.”

PART 1852—SOLICITATION PROVISIONS AND CONTRACT CLAUSES

3. The authority citation for part 1852 is revised to read as follows:

Authority: 51 U.S.C. 20113(a) and 48 CFR chapter 1.

1852.223-73 [Amended]

4. Amend section 1852.223-73 by redesignating paragraph (d) as (c).

[FR Doc. 2016-05231 Filed 3-8-16; 8:45 am]

BILLING CODE 7510-13-P